ENVIRONMENTAL PROTECTION AGENCY

40 CFR Parts 9 and 721

[EPA-HQ-OPPT-2019-0494; FRL-7584-03-OCSPP]

RIN 2070-AB27

Significant New Use Rules on Certain Chemical Substances (19-4.F); Correction

AGENCY: Environmental Protection Agency (EPA).

ACTION: Final rule; correction.

SUMMARY: EPA issued a final rule in the Federal Register of Monday, June 27, 2022, concerning significant new use rules (SNURs) under the Toxic Substances Control Act (TSCA) for chemical substances which were the subject of premanufacture notices (PMNs). This document corrects a typographical error in an amendatory instruction.

DATES: This correction is effective September 29, 2022.

FOR FURTHER INFORMATION CONTACT: William Wysong, New Chemicals Division (7405M), Office of Pollution Prevention and Toxics, Environmental Protection Agency, 1200 Pennsylvania Ave. NW, Washington, DC 20460-0001; telephone number: (202) 564-4163; email address: wysong.william@epa.gov.

SUPPLEMENTARY INFORMATION: In FR Doc. 2022-13338 appearing on page 37999 in the Federal Register of Monday, June 27, 2022 (87 FR 37999 (FRL-7584-01-OCSPP)), the following correction is made to correct a typographical error in amendatory instruction 2:

1. On page 38003, in the third column, in amendatory instruction 2 amending § 9.1, in the fourth and fifth lines, “721.11404 through 721.11410, and 721.11411” is corrected to read “721.11404 through 721.11409, and 721.11411”.

Dated: September 23, 2022.
Tala Henry,
Deputy Director, Office of Pollution Prevention and Toxics.

[FR Doc. 2022-20983 Filed 9-28-22; 8:45 am]

BILLING CODE 6560-50-P